DEPARTMENT OF DEFENSE

Office of the Secretary

[DoD-2007-OS-0087]

Privacy Act of 1974; Systems of Records

AGENCY: Defense Logistics Agency, DOD.

ACTION: Notice to alter a system of records.

SUMMARY: The Defense Logistics Agency proposes to alter a system of records notice in its existing inventory of records systems subject to the Privacy Act of 1974 (5 U.S.C. 552a), as amended.

DATES: This proposed action will be effective without further notice on September 17, 2007 unless comments are received which result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Jody Sinkler at (703) 767-5045.

SUPPLEMENTARY INFORMATION: The Defense Logistics Agency systems of records notices subject to the Privacy Act of 1974 (5 U.S.C. 552a), as amended, have been published in the Federal Register and are available from the address above.

The proposed system reports, as required by 5 U.S.C. 552a(r), of the Privacy Act of 1974, as amended, were submitted on August 9, 2007, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: August 10, 2007.
L.M. Bynum,
Alternate OSD Federal Register Liaison Officer, Department of Defense.

S500.40 CAAS

System Name:

Police Force Records (September 14, 1999, 64 FR 49780).

Changes:

System Identifier:

Delete “CAAS” from entry.

System Name:

Delete entry and replace with “DLA Security Force and Staff Records.”

System Location:

Delete entry and replace with “Public Safety and Security Office, Headquarters, Defense Logistics Agency, 8725 John J. Kingman Road, Suite 3533, Fort Belvoir, VA 22060-6220 and the Public Safety or Security Offices of the DLA Field Activities. Addresses may be obtained from the System manager.”

Categories of Individuals Covered by the System:

Delete entry and replace with “Defense Logistics Agency (DLA) security and investigations personnel.”

Categories of Records in the System:

Delete entry and replace with “Records contain individual's name, Social Security Number (SSN), date of birth, home address, telephone number, emergency notification data, driver's license number and expiration date, security clearance, weapons qualification, education and training data, professional certifications, issuance and receipt of property and equipment (uniforms, shields, credentials, weapons, ammunition), shift assignments, and related papers.”

Authority for Maintenance of the System:

Delete entry and replace with “10 U.S.C. 136, Under Secretary of Defense for Personnel and Readiness; section 21 of the Internal Security Act of 1950 (50 U.S.C. 797); 18 U.S.C. 499, Military, Naval, or Official Passes; 18 U.S.C. 701, Official Badges, Identification Cards, Other Insignia; 18 U.S.C. 716, Police Badges; DOD Directive 5200.8, Security of Military Installations and Resources; 10 U.S.C. 1580, Emergency Essential Personnel, designation; 10 U.S.C. 1585, Carrying of Firearms; DOD 5210.56, Use of Deadly Force and the Carrying of Firearms by DOD Personnel Engaged in Law Enforcement and Security Duties; CJCSI 3121.01B, Standing Rules of Engagement/Standing rules for the Use of Force for U.S. Forces; 10 U.S.C. 1593, Uniform allowance: civilian employees; and E.O. 9397 (SSN).”

Purpose(s):

Delete entry and replace with “Information is maintained and used by DLA Security Managers, Security and Public Safety staffs, and Security Force Supervisors to provide data concerning the professional qualifications, training requirements, and health and readiness of Security Force personnel at DLA Headquarters and Field Activities. Records are also used for identification and emergency notification in case of accident or casualty; to maintain control and accountability of property (i.e., uniforms, shields, credentials, weapons, ammunition, and equipment); to ensure proper training; to develop schedules and procedures to improve efficiency. Records are used to determine if an individual is qualified in the use of firearms and vehicles, and for security clearance to handle classified information.”

Routine Uses of Records Maintained in the System, Including Categories of Users and the Purpose of Such Uses:

Delete entry and replace with “In addition to those disclosures generally permitted under 5 U.S.C. 552a(b) of the Privacy Act, these records or information contained therein may specifically be disclosed outside the DoD as a routine use pursuant to 5 U.S.C. 552a(b)(3) as follows:

To Federal, state or local law enforcement agencies for training or assistance in police or security operations.

To local hospitals and medical personnel for emergency treatment in case of accident or casualty.

To Federal and non-federal schools, academies, and similar institutions for training or certification purposes.

To Federal, state, or local disaster relief agencies for mutual aid.

The DOD “Blanket Routine Uses” set forth at the beginning of DLA's compilation of systems of records notices apply to this system.”

Retrievability:

Delete entry and replace with “Retrieved by individual's name, Social Security Number (SSN), shield or credential number, and/or by duty station.”

Safeguards:

Delete entry and replace with “Records are maintained in areas accessible only to DLA Headquarters and Field Activities security supervisory and staff personnel who uses the records to perform their duties. All records are maintained on closed military installations with security force personnel performing installation access control and random patrols. Common Access Cards and personal identification numbers are used to authenticate authorized desktop and laptop computer users. Computer servers are scanned quarterly or monthly to assess system vulnerabilities. Systems security updates are accomplished daily. The computer files are password protected with access restricted to authorized users with a need for the information. Records are secured in locked or guarded buildings, locked offices, or locked cabinets during non duty hours, with access restricted during duty hours to authorized users with a need for the information.”

Retention and Disposal:

Delete entry and replace with “Records are destroyed after 1 year, when no longer needed, superseded or obsolete, or upon termination of record subject, as applicable.”

System Manager(s) and Address:

Delete entry and replace with “Program Manager, Security Plans and Policy, Headquarters, Defense Logistics Agency, Office of Public Safety, 8725 John J. Kingman Road, Suite 3533, Fort Belvoir, VA 22060-6220, and the Security Managers within the DLA Field Activity responsible for the operation of security forces and staff at the DLA Field Activity.”

Notification Procedure:

Delete entry and replace with “Individuals seeking to determine whether information about themselves is contained in this system should address written inquiries to the HQ DLA Privacy Act Office, Headquarters, Defense Logistics Agency, ATTN: HQ DLA-GC (FOIA/Privacy), 8725 John J. Kingman Road, STOP 1644, Fort Belvior, VA 22060-6221.

Requests should contain the individual's full name, Social Security Number (SSN), and the DLA activity where employed.”

Record Access Procedures:

Delete entry and replace with “Individuals seeking access to information about themselves contained in this system should address written inquiries to the HQ DLA Privacy Act Office, Headquarters, Defense Logistics Agency, ATTN: HQ DLA-GC (FOIA/Privacy), 8725 John J. Kingman Road, STOP 1644, Fort Belvior, VA 22060-6221.

Requests should contain individual's full name, Social Security Number (SSN), and the DLA activity where employed.”

Contesting Record Procedures:

Delete entry and replace with “The DLA rules for accessing records, for contesting contents, and appealing initial agency determinations are contained in 32 CFR part 323, or may be obtained from the HQ DLA Privacy Act Office, Headquarters, Defense Logistics Agency, ATTN: HQ DLA-GC (FOIA/Privacy), 8725 John J. Kingman Road, STOP 1644, Fort Belvior, VA 22060-6221.”

Record Source Categories:

Delete entry and replace with “The record subject, DLA Security Managers, Security Staff, Security Force Supervisors, and training and educational institutions.”

S500.40

System Name:

DLA Security Force and Staff Records.

System Location:

Public Safety and Security Office, Headquarters, Defense Logistics Agency, 8725 John J. Kingman Road, Suite 3533, Fort Belvoir, VA 22060-6220 and the Public Safety and Security Offices of the DLA Field Activities. Addresses may be obtained from the System manager.

Categories of Individuals Covered by the System:

Defense Logistics Agency (DLA) security and investigations personnel.

Categories of Records in the System:

Records contain individual's name, Social Security Number (SSN), date of birth, home address, telephone number, emergency notification data, driver's license number and expiration date, security clearance, weapons qualification, education and training data, professional certifications, issuance and receipt of property and equipment (uniforms, shields, credentials, weapons, ammunition), shift assignments, and related papers.

Authority for Maintenance of the System:

10 U.S.C. 136, Under Secretary of Defense for Personnel and Readiness; Section 21 of the Internal Security Act of 1950 (50 U.S.C. 797); 18 U.S.C. 499, Military, Naval, or Official Passes; 18 U.S.C. 701, Official Badges, Identification Cards, Other Insignia; 18 U.S.C. 716, Police Badges; DOD Directive 5200.8, Security of Military Installations and Resources; 10 U.S.C. 1580, Emergency Essential Personnel, designation; 10 U.S.C. 1585, Carrying of Firearms; DOD 5210.56, Use of Deadly Force and the Carrying of Firearms by DOD Personnel Engaged in Law Enforcement and Security Duties; CJCSI 3121.01B, Standing Rules of Engagement/Standing rules for the Use of Force for U.S. Forces; 10 U.S.C. 1593, Uniform allowance: civilian employees; and E.O. 9397 (SSN).

Purpose(s):

Information is maintained and used by DLA Security Managers, Security and Public Safety staffs, and Security Force Supervisors to provide data concerning the professional qualifications, training requirements, and health and readiness of Security Force personnel at DLA Headquarters and Field Activities. Records are also used for identification and emergency notification in case of accident or casualty; to maintain control and accountability of property (i.e. uniforms, shields, credentials, weapons, ammunition, and equipment); to ensure proper training; to develop schedules and procedures to improve efficiency. Records are used to determine if an individual is qualified in the use of firearms and vehicles and for security clearance to handle classified information.

Routine Uses of Records Maintained in the System, Including Categories of Users and the Purpose of Such Uses:

In addition to those disclosures generally permitted under 5 U.S.C. 552a(b) of the Privacy Act, these records or information contained therein may specifically be disclosed outside the DoD as a routine use pursuant to 5 U.S.C. 552a(b)(3) as follows:

To Federal, state or local law enforcement agencies for training or assistance in police or security operations.

To local hospitals and medical personnel for emergency treatment in case of accident or casualty.

To Federal and non-federal schools, academies, and similar institutions for training or certification purposes.

To Federal, state, or local disaster relief agencies for mutual aid.

The DOD “Blanket Routine Uses” that appear at the beginning of DLA's compilation of systems of records notices apply to this system.

Policies and Practices for Storing, Retrieving, Accessing, Retaining, and Disposing of Records in the System:

Storage:

Paper records in file folders and electronic storage media.

Retrievability:

Retrieved by individual's name, Social Security Number (SSN), shield or credential number, and/or by duty station.

Safeguards:

Records are maintained in areas accessible only to DLA Headquarters and Field Activities security supervisory and staff personnel who use the records to perform their duties. All records are maintained on closed military installations with security force personnel performing installation access control and random patrols. Common Access Cards and personal identification numbers are used to authenticate authorized desktop and laptop computer users. Computer servers are scanned quarterly or monthly to assess system vulnerabilities. Systems security updates are accomplished daily. The computer files are password protected with access restricted to authorized users with a need for the information. Records are secured in locked or guarded buildings, locked offices, or locked cabinets during non duty hours, with access restricted during duty hours to authorized users with a need for the information.

Retention and Disposal:

Records are destroyed after 1 year, when no longer needed, superseded or obsolete, or upon termination of record subject, as applicable.

System Manager(s) and Address:

Program Manager, Security Plans and Policy, Headquarters, Defense Logistics Agency, Office of Public Safety, 8725 John J. Kingman Road, Suite 3533, Fort Belvoir, VA 22060-6220, and the Security Managers within the DLA Field Activity responsible for the operation of security forces and staff at the DLA Field Activity.

Notification Procedure:

Individuals seeking to determine whether information about themselves is contained in this system should address written inquiries to the HQ DLA Privacy Act Office, Headquarters, Defense Logistics Agency, ATTN: HQ DLA-GC (FOIA/Privacy), 8725 John J. Kingman Road, STOP 1644, Fort Belvior, VA 22060-6221.

Requests should contain individual's full name, Social Security Number (SSN), and the DLA activity where employed.

Record Access Procedures:

Individuals seeking access to information about themselves contained in this system should address written inquiries to the HQ DLA Privacy Act Office, Headquarters, Defense Logistics Agency, ATTN: HQ DLA-GC (FOIA/Privacy), 8725 John J. Kingman Road, STOP 1644, Fort Belvior, VA 22060-6221.

Request should contain individual's full name, Social Security Number (SSN), and the DLA activity where employed.

Contesting Record Procedures:

The DLA rules for accessing records, for contesting contents, and appealing initial agency determinations are contained in 32 CFR part 323, or may be obtained from the HQ DLA Privacy Act Office, Headquarters, Defense Logistics Agency, ATTN: HQ DLA-GC (FOIA/Privacy), 8725 John J. Kingman Road, STOP 1644, Fort Belvior, VA 22060-6221.

Record Source Categories:

The record subject, DLA Security Managers, Security Staff, Security Force Supervisors, and training and educational institutions.

Exemptions Claimed for the System:

None.

[FR Doc. E7-16137 Filed 8-15-07; 8:45 am]

BILLING CODE 5001-06-P